DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Voluntary Customer Service Survey.

Agency Form Number: N/A.

OMB Approval Number: 0694-0xxx.

Type of Request: New Collection.

Burden: 667 hours.

Average Time Per Response: 10 minutes.

Number of Respondents: 4,000 respondents.

Needs and Uses: This collection of information is required to obtain feedback on the quality of services BIS delivers to the public. This information will be used to improve the quality of services and to measure Government performance in accordance with the Government Performance and Results Act. This survey will be voluntary and not more than one page in length.

Affected Public: Individuals, businesses or other for-profit institutions.

Respondent's Obligation: Voluntary.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, email address David_Rostker@omb.eop.gov or fax number, (202) 395-7285.

Dated: July 20, 2006.
Madeleine Clayton,
Management Analyst, Office of the Chief Information Officer.

[FR Doc. E6-11812 Filed 7-24-06; 8:45 am]

BILLING CODE 3510-DT-P